DEPARTMENT OF AGRICULTURE

Agricultural Marketing Service

7 CFR Parts 900, 915, 917, 923, 925, 932, 946, 948, 953, 955, 956, 958, 981, 984, 987, and 993

[Doc. No. AMS-SC-17-0083; SC18-915-l FR]

Subpart Nomenclature Change; Technical Amendment

AGENCY: Agricultural Marketing Service, USDA.

ACTION: Final rule; technical amendment.

SUMMARY: This document makes nomenclature changes to subpart headings in the Agricultural Marketing Service's regulations to bring the language into conformance with the Office of the Federal Register requirements.

DATES: This rule is effective May 7, 2018.

ADDRESSES: Marketing Order and Agreement Division, Specialty Crops Program, AMS, USDA, 1400 Independence Avenue SW, Stop 0237, Washington, DC 20250-0237.

FOR FURTHER INFORMATION CONTACT: Melissa Schmaedick, Senior Marketing Specialist, Marketing Order and Agreement Division, Specialty Crops Program, AMS, USDA, Post Office Box 952, Moab, UT 84532; Telephone: (202) 557-4783, Fax: (435) 259-1502, or Julie Santoboni, Rulemaking Branch Chief, Marketing Order and Agreement Division, Specialty Crops Program, AMS, USDA, 1400 Independence Avenue SW, Stop 0237, Washington, DC 20250-0237; Telephone: (202) 720-2491, Fax: (202) 720-8938, or Email: Melissa.Schmaedick@ams.usda.gov or Julie.Santoboni@ams.usda.gov.

Small businesses may request information on this proceeding by contacting Richard Lower, Marketing Order and Agreement Division, Specialty Crops Program, AMS, USDA, 1400 Independence Avenue SW, Stop 0237, Washington, DC 20250-0237; Telephone: (202) 720-2491, Fax: (202) 720-8938, or Email: Richard.Lower@ams.usda.gov.

SUPPLEMENTARY INFORMATION: This action, pursuant to 5 U.S.C. 553, amends regulations issued to carry out a marketing order as defined in 7 CFR 900.2(j). This rule is issued under the General regulations (part 900) and the marketing orders in numerous other parts of title 7, that regulate the handling of fruits, vegetables and nuts (parts 915, 917, 923, 925, 932, 946, 948, 953, 955, 956, 958, 981, 984, 987, and 993). These parts (referred to as “Order” or “Orders”), are effective under the Agricultural Marketing Agreement Act of 1937, as amended (7 U.S.C. 601-674), hereinafter referred to as the “Act.”

This rule falls within a category of regulatory actions that the Office of Management and Budget (OMB) exempted from Executive Order 12866 review. Additionally, because this rule does not meet the definition of a significant regulatory action, it does not trigger the requirements contained in Executive Order 13771. See the Office of Management and Budget's (OMB) Memorandum titled “Interim Guidance Implementing Section 2 of the Executive Order of January 30, 2017 titled `Reducing Regulation and Controlling Regulatory Costs' ” (February 2, 2017).

Preliminary Statement

This document makes nomenclature changes to subpart headings in part 900 and Orders 915, 917, 923, 925, 932, 946, 948, 953, 955, 956, 958, 981, 984, 987, and 993 to bring the language into conformance with the Office of the Federal Register (OFR) requirements. These changes will ensure that all subpart headings in part 900 and the Orders are consistent with OFR nomenclature and formatting used throughout the Code of Federal Regulations (CFR).

A. What does this technical amendment do?

This technical amendment redesignates and revises the heading of each subpart within part 900 and each of the Orders so that it is consistent with OFR requirements. These subparts were improperly incorporated into the Orders without an assigned subpart letter. Further, some subpart headings were titled “Rules and Regulations,” which is inconsistent with approved subpart headings, as each Order, defined as a part under chapter IX, volume 8, title 7 of the CFR, “AGRICULTURAL MARKETING SERVICE (MARKETING AGREEMENTS AND ORDERS; FRUITS, VEGETABLES, NUTS), DEPARTMENT OF AGRICULTURE,” represents a body of regulations. For example, part 915, encompasses regulations of the Order for avocados grown in south Florida. The first subpart of this part is correctly titled “Order Regulating Handling,” but lacks the correct designation as “subpart A.” This rule amends that subpart by redesignating it as “Subpart A-Order Regulating Handling.” The second subpart of part 915 is both undesignated and erroneously titled, “Subpart-Rules and Regulations.” This title is considered redundant by the OFR in that it denotes regulations within a body of regulation. This rule amends that subpart by redesignating it as “subpart B” and revising the heading to read, “Subpart B-Administrative Requirements.” This document makes similar amendments to redesignate and revise headings of all subparts of the listed Orders to bring them into compliance with OFR requirements. Not all marketing orders are addressed in this rule as some marketing orders do not contain subpart headings that require corrections.

B. Why is this technical amendment issued as a final rule?

Section 553(b)(3)(B) of the Administrative Procedure Act (APA), 5 U.S.C. 553(b)(3)(B), provides that, when an agency for good cause finds that notice and public procedure are impracticable, unnecessary or contrary to the public interest, the agency may issue a rule without providing notice and an opportunity for public comment. The Agricultural Marketing Service (AMS) has determined that there is good cause for making this technical amendment final without prior proposal and opportunity for comment because the redesignations and revised headings will have no impact on the regulations of the affected parts. AMS has determined that public comment on such ministerial changes is unnecessary and that therefore there is good cause under 5 U.S.C. 553(b)(3)(B) for proceeding with a final rule.

Further, because a notice of proposed rulemaking and opportunity for public comment are not required to be given for this rule under the APA or any other law, the analytical requirements of the Regulatory Flexibility Act (5 U.S.C. 601 et seq.) are not applicable. Accordingly, this rule is issued in final form. Although there is no formal comment period, public comments on this rule are welcome on a continuing basis. Comments should be submitted to the address or email under FOR FURTHER INFORMATION CONTACT.

List of Subjects

7 CFR Part 900

Administrative practice and procedure, Freedom of information, Marketing agreements, Reporting and recordkeeping requirements.

7 CFR Part 915

Avocados, Marketing agreements, Reporting and recordkeeping requirements.

7 CFR Part 917

Marketing agreements, Peaches, Pears, Plums, Reporting and recordkeeping requirements.

7 CFR Part 923

Cherries, Marketing agreements, Reporting and recordkeeping requirements.

7 CFR Part 925

Grapes, Marketing agreements, Reporting and recordkeeping requirements.

7 CFR Part 932

Marketing agreements, Olives, Reporting and recordkeeping requirements.

7 CFR Part 946

Marketing agreements, Potatoes, Reporting and recordkeeping requirements.

7 CFR Part 948

Marketing agreements, Potatoes, Reporting and recordkeeping requirements.

7 CFR Part 953

Marketing agreements, Potatoes, Reporting and recordkeeping requirements.

7 CFR Part 955

Marketing agreements, Onions, Reporting and recordkeeping requirements.

7 CFR Part 956

Marketing agreements, Onions, Reporting and recordkeeping requirements.

7 CFR Part 958

Marketing agreements, Onions, Reporting and recordkeeping requirements.

7 CFR Part 981

Marketing agreements, Nuts, Reporting and recordkeeping requirements.

7 CFR Part 984

Marketing agreements, Nuts, Reporting and recordkeeping requirements.

7 CFR Part 987

Dates, Marketing agreements, Reporting and recordkeeping requirements.

7 CFR Part 993

Marketing agreements, Plums, Prunes, Reporting and recordkeeping requirements.

For the reasons set forth in the preamble, AMS amends 7 CFR parts 900, 915, 917, 923, 925, 932, 946, 948, 953, 955, 956, 958, 981, 984, 987 and 993 as follows:

PART 900—GENERAL REGULATIONS

1. The authority citation for 7 CFR part 900 is revised to read as follows:

Authority: 7 U.S.C. 601-674; 7 U.S.C. 7401; 5 U.S.C. 301, 552; and 44 U.S.C. Ch. 35.

[Subpart Redesignated as Subpart A]

2. Redesignate “Subpart-Rules of Practice and Procedure Governing Proceedings to Formulate Marketing Agreements and Marketing Orders” as “Subpart A-Procedural Requirements Governing Proceedings to Formulate Marketing Agreements and Marketing Orders”.

[Subpart Redesignated as Subpart B]

3. Redesignate “Subpart—Supplemental Rules of Practice Governing Proceedings to Amend Federal Milk Marketing Agreements and Marketing Orders” as “Subpart B—Supplemental Procedural Requirements Governing Proceedings to Amend Federal Milk Marketing Agreements and Marketing Orders”.

[Subpart Redesignated as Subpart C]

4. Redesignate “Subpart—Supplemental Rules of Practice Governing Proceedings to Amend Fruit, Vegetable and Nut Marketing Agreements and Marketing Orders” as “Subpart C—Supplemental Procedural Requirements Governing Proceedings to Amend Fruit, Vegetable and Nut Marketing Agreements and Marketing Orders”.

[Subpart Redesignated as Subpart D]

5. Redesignate “Subpart—Rules of Practice Governing Proceedings on Petitions To Modify or To Be Exempted From Marketing Orders” as “Subpart D—Procedural Requirements Governing Proceedings on Petitions To Modify or To Be Exempted From Marketing Orders”.

[Subpart Redesignated as Subpart E]

6. Redesignate “Subpart—Supplemental Rules of Practice for Marketing Orders, Marketing Agreements, and Requirements Issued Pursuant to 7 U.S.C. 608b(b) and 7 U.S.C. 608e Covering Fruits, Vegetables, and Nuts” as “Subpart E—Supplemental Procedural Requirements for Marketing Orders, Marketing Agreements, and Requirements Covering Fruits, Vegetables, and Nuts”.

[Subpart Redesignated as Subpart F]

7. Redesignate “Subpart—Procedure Governing Meetings To Arbitrate and Mediate Disputes Relating to Sales of Milk or Its Products” to “Subpart F—Procedure Governing Meetings To Arbitrate and Mediate Disputes Relating to Sales of Milk or Its Products”.

[Subpart Redesignated as Subpart G and Amended]

8. Redesignate “Subpart—Miscellaneous Regulations” as subpart G and revise the heading to read as follows:

Subpart G—Miscellaneous Requirements

[Subpart Redesignated as Subpart H]

9. Redesignate “Subpart—Procedure for Conduct of Referenda To Determine Producer Approval of Milk Marketing Orders To Be Made Effective Pursuant to Agricultural Marketing Agreement Act of 1937, as Amended” as “Subpart H—Procedure for Conduct of Referenda To Determine Producer Approval of Milk Marketing Orders To Be Made Effective Pursuant to Agricultural Marketing Agreement Act of 1937, as Amended”.

[Subpart Redesignated as Subpart I]

10. Redesignate “Subpart—Procedure for Determining the Qualification of Cooperative Milk Marketing Associations” as “Subpart I—Procedure for Determining the Qualification of Cooperative Milk Marketing Associations”.

[Subpart Redesignated as Subpart J]

11. Redesignate “Subpart—Procedure for the Conduct of Referenda in Connection With Marketing Orders for Fruits, Vegetables, and Nuts Pursuant to the Agricultural Marketing Agreement Act of 1937, as Amended” as “Subpart J—Procedure for the Conduct of Referenda in Connection With Marketing Orders for Fruits, Vegetables, and Nuts Pursuant to the Agricultural Marketing Agreement Act of 1937, as Amended”.

[Subpart Redesignated as Subpart K]

12. Redesignate “Subpart—Public Information” as “Subpart K—Public Information”.

[Subpart Redesignated as Subpart L]

13. Redesignate “Subpart—Information Collection” as “Subpart L—Information Collection”.

[Subpart Redesignated as Subpart M]

14. Redesignate “Subpart—Assessment of Exemptions” as “Subpart M—Assessment of Exemptions”.

PART 915—AVOCADOS GROWN IN SOUTH FLORIDA

PART 917—FRESH PEARS AND PEACHES GROWN IN CALIFORNIA

PART 923—SWEET CHERRIES GROWN IN DESIGNATED COUNTIES IN WASHINGTON

PART 925—GRAPES GROWN IN A DESIGNATED AREA OF SOUTHEASTERN CALIFORNIA

PART 932—OLIVES GROWN IN CALIFORNIA

PART 946—IRISH POTATOES GROWN IN WASHINGTON

PART 948—IRISH POTATOES GROWN IN COLORADO

PART 953—IRISH POTATOES GROWN IN SOUTHEASTERN STATES

PART 955—VIDALIA ONIONS GROWN IN GEORGIA

PART 956—SWEET ONIONS GROWN IN THE WALLA WALLA VALLEY OF SOUTHWEST WASHINGTON AND NORTHEAST OREGON

PART 958—ONIONS GROWN IN CERTAIN DESIGNATED COUNTIES IN IDAHO, AND MALHEUR COUNTY, OREGON

PART 981—ALMONDS GROWN IN CALIFORNIA

PART 984—WALNUTS GROWN IN CALIFORNIA

PART 987—DOMESTIC DATES PRODUCED OR PACKED IN RIVERSIDE COUNTY, CALIFORNIA

PART 993—DRIED PRUNES PRODUCED IN CALIFORNIA

15. The authority citation for 7 CFR parts 915, 917, 923, 925, 932, 946, 948, 953, 955, 956, 958, 981, 984, 987 and 993 continues to read as follows:

Authority: 7 U.S.C. 601-674.

PART 915—AVOCADOS GROWN IN SOUTH FLORIDA

[Subpart Redesignated as Subpart A]

16. Redesignate “Subpart—Order Regulating Handling” as “Subpart A—Order Regulating Handling”.

[Subpart Redesignated as Subpart B and Amended]

17. Redesignate “Subpart—Rules and Regulations” as subpart B and revise the heading to read as follows:

Subpart B—Administrative Requirements

[Subpart Redesignated as Subpart C]

18. Redesignate “Subpart—Assessment Rates” as “Subpart C—Assessment Rates”.

[Subpart Redesignated as Subpart D and Amended]

19. Redesignate “Subpart—Container and Pack Regulations” as subpart D and revise the heading to read as follows:

Subpart D—Container and Pack Requirements

PART 917—FRESH PEARS AND PEACHES GROWN IN CALIFORNIA

[Subpart Redesignated as Subpart A]

20. Redesignate “Subpart—Order Regulating Handling” as “Subpart A—Order Regulating Handling”.

[Subpart Redesignated as Subpart B and Amended]

21. Redesignate “Subpart—Rules and Regulations” as subpart B and revise the heading to read as follows:

Subpart B—Administrative Requirements

[Subpart Redesignated as Subpart C and Amended]

22. Redesignate “Subpart—Grade and Size Regulation” as subpart C and revise the heading to read as follows:

Subpart C—Grade and Size Requirements

PART 923—SWEET CHERRIES GROWN IN DESIGNATED COUNTIES IN WASHINGTON

[Subpart Redesignated as Subpart A]

23. Redesignate “Subpart—Order Regulating Handling” as “Subpart A—Order Regulating Handling”.

PART 925—GRAPES GROWN IN A DESIGNATED AREA OF SOUTHEASTERN CALIFORNIA

§§ 925.1 through 925.69 [Designated as Subpart A]

24. Designate §§ 925.1 through 925.69 as subpart A and add a heading for subpart A to read as follows:

Subpart A—Order Regulating Handling

[Subpart Redesignated as Subpart B and Amended]

25. Redesignate “Subpart—Rules and Regulations” as subpart B and revise the heading to read as follows:

Subpart B—Administrative Requirements

[Subpart Redesignated as Subpart C]

26. Redesignate “Subpart—Assessment Rates” as “Subpart C—Assessment Rates”.

PART 932—OLIVES GROWN IN CALIFORNIA

[Subpart Redesignated as Subpart A]

27. Redesignate “Subpart—Order Regulating Handling” as “Subpart A—Order Regulating Handling”.

[Subpart Redesignated as Subpart B and Amended]

28. Redesignate “Subpart—Rules and Regulations” as subpart B and revise the heading to read as follows:

Subpart B—Administrative Requirements

PART 946—IRISH POTATOES GROWN IN WASHINGTON

[Subpart Redesignated as Subpart A]

29. Redesignate “Subpart—Order Regulating Handling” as “Subpart A—Order Regulating Handling”.

[Subpart Redesignated as Subpart B and Amended]

30. Redesignate “Subpart—Rules and Regulations” as subpart B and revise the heading to read as follows:

Subpart B—Administrative Requirements

[Subpart Redesignated as Subpart C and Amended]

31. Redesignate “Subpart—Handling Regulations” as subpart C and revise the heading to read as follows:

Subpart C—Handling Requirements

PART 948—IRISH POTATOES GROWN IN COLORADO

[Subpart Redesignated as Subpart A]

32. Redesignate “Subpart—Order Regulating Handling” as “Subpart A—Order Regulating Handling”.

[Subpart Redesignated as Subpart B and Amended]

33. Redesignate “Subpart—Rules and Regulations” as subpart B and revise the heading to read as follows:

Subpart B—Administrative Requirements

[Subpart Redesignated as Subpart C]

34. Redesignate “Subpart—Accounting and Collections” as “Subpart C—Accounting and Collections”.

[Subpart Redesignated as Subpart D and Amended]

35. Redesignate “Subpart—Handling Regulations” as subpart D and revise the heading to read as follows:

Subpart D—Handling Requirements

PART 953—IRISH POTATOES GROWN IN SOUTHEASTERN STATES

[Subpart Redesignated as Subpart A]

36. Redesignate “Subpart—Order Regulating Handling” as “Subpart A—Order Regulating Handling”.

[Subpart Redesignated as Subpart B and Amended]

37. Redesignate “Subpart—Rules and Regulations” as subpart B and revise the heading to read as follows:

Subpart B—Administrative Requirements

[Subpart Redesignated as Subpart C]

38. Redesignate “Subpart—Assessment Rates” as “Subpart C—Assessment Rates”.

[Subpart Redesignated as Subpart D and Amended]

39. Redesignate “Subpart—Handling Regulations” as subpart D and revise the heading to read as follows:

Subpart D—Handling Requirements

PART 955—VIDALIA ONIONS GROWN IN GEORGIA

§§ 955.1 through 955.92 [Designated as Subpart A]

40. Designate §§ 955.1 through 955.92 as subpart A and add a heading for subpart A to read as follows:

Subpart A—Order Regulating Handling

[Subpart Redesignated as Subpart B and Amended]

41. Redesignate “Subpart—Rules and Regulations” as subpart B and revise the heading to read as follows:

Subpart B—Administrative Requirements

PART 956—SWEET ONIONS GROWN IN THE WALLA WALLA VALLEY OF SOUTHEAST WASHINGTON AND NORTHEAST OREGON

§§ 956.1 through 956.96 [Designated as Subpart A]

42. Designate §§ 956.1 through 956.96 as subpart A and add a heading for subpart A to read as follows:

Subpart A—Order Regulating Handling

[Subpart Redesignated as Subpart B and Amended]

43. Redesignate “Subpart—Rules and Regulations” as subpart B and revise the heading to read as follows:

Subpart B—Administrative Requirements

PART 958—ONIONS GROWN IN CERTAIN DESIGNATED COUNTIES IN IDAHO, AND MALHEUR COUNTY, OREGON

[Subpart Redesignated as Subpart A]

44. Redesignate “Subpart—Order Regulating Handling” as “Subpart A—Order Regulating Handling”.

[Subpart Redesignated as Subpart B and Amended]

45. Redesignate “Subpart—Rules and Regulations” as subpart B and revise the heading to read as follows:

Subpart B—Administrative Requirements

[Subpart Redesignated as Subpart C and Amended]

46. Redesignate “Subpart—Handling Regulations” as subpart C and revise the heading to read as follows:

Subpart C—Handling Requirements

PART 981—ALMONDS GROWN IN CALIFORNIA

[Subpart Redesignated as Subpart A]

47. Redesignate “Subpart—Order Regulating Handling” as “Subpart A—Order Regulating Handling”.

[Subpart Redesignated as Subpart B]

48. Redesignate “Subpart—Assessment Rates” as “Subpart B—Assessment Rates”.

[Subpart Redesignated as Subpart C and Amended]

49. Redesignate “Subpart—Administrative Rules and Regulations” as subpart C and revise the heading to read as follows:

Subpart C—Administrative Requirements

PART 984—WALNUTS GROWN IN CALIFORNIA

[Subpart Redesignated as Subpart A]

50. Redesignate “Subpart—Order Regulating Handling” as “Subpart A—Order Regulating Handling”.

[Subpart Redesignated as Subpart B]

51. Redesignate “Subpart—Assessment Rates” as “Subpart B—Assessment Rates”.

[Subpart Redesignated as Subpart C and Amended]

52. Redesignate “Subpart—Administrative Rules and Regulations” as subpart C and revise the heading to read as follows:

Subpart C—Administrative Requirements

PART 987—DOMESTIC DATES PRODUCED OR PACKED IN RIVERSIDE COUNTY, CALIFORNIA

[Subpart Redesignated as Subpart A]

53. Redesignate “Subpart—Order Regulating Handling” as “Subpart A—Order Regulating Handling”.

[Subpart Redesignated as Subpart B and Amended]

54. Redesignate “Subpart—Administrative Rules” as subpart B and revise the heading to read as follows:

Subpart B—Administrative Requirements

[Subpart Redesignated as Subpart C]

55. Redesignate “Subpart—Assessment Rates” as “Subpart C—Assessment Rates”.

PART 993—DRIED PRUNES PRODUCED IN CALIFORNIA

[Subpart Redesignated as Subpart A]

56. Redesignate “Subpart—Order Regulating Handling” as “Subpart A—Order Regulating Handling”.

[Subpart Redesignated as Subpart B and Amended]

57. Redesignate “Subpart—Administrative Rules and Regulations” as subpart B and revise the heading to read as follows:

Subpart B—Administrative Requirements

[Subpart Redesignated as Subpart C]

58. Redesignate “Subpart—Assessment Rates” as “Subpart C—Assessment Rates”.

[Subpart Redesignated as Subpart D and Amended]

59. Redesignate “Subpart—Undersized Prune Regulation” as subpart D and revise the heading to read as follows:

Subpart D—Undersized Prune Requirements

[Subpart Redesignated as Subpart E]

60. Redesignate “Subpart—Pack Specification as to Size” as “Subpart E—Pack Specification as to Size”.

[Subpart Redesignated as Subpart F and Amended]

61. Redesignate “Subpart—Grade Regulations” as subpart F and revise the heading to read as follows:

Subpart F—Grade Requirements

Dated: March 30, 2018.
Bruce Summers,
Acting Administrator, Agricultural Marketing Service.

[FR Doc. 2018-06882 Filed 4-5-18; 8:45 am]

BILLING CODE 3410-02-P